DEPARTMENT OF TRANSPORTATION

Federal Aviation Administration

Notice of Intent To Rule on Application 03-05-C-00-RIC to, Impose and Use the Revenue From a Passenger Facility Charge (PFC) at Richmond International Airport, Richmond, VA

AGENCY: Federal Aviation Administration (FAA), DOT.

ACTION: Notice of intent to rule on application.

SUMMARY: The FAA proposes to rule and invites public comment on the application to, impose and use the revenue from a PFC at Richmond International Airport under the provisions of the 49 U.S.C. 40117 and part 158 of the Federal Aviation Regulations (14 CFR part 158).

DATES: Comments must be received on or before January 23, 2003.

ADDRESSES: Comments on this application may be mailed or delivered in triplicate to the FAA at the following address: Washington Airports District Office, 23723 Air Freight Lane, Suite 210, Dulles, Va, 22016.

In addition, one copy of any comments submitted to the FAA must be mailed or delivered to Jon E. Mathiasen, Executive Director of the Capital Region Airport Commission at the following address: Capital Region Airport Commission, 1 Richard E. Byrd Terminal Drive, Richmond International Airport, Virginia 23250-2400.

Air carriers and foreign air carriers may submit copies of written comments previously provided to the Capital Region Airport Commission under section 158.23 of part 158.

FOR FURTHER INFORMATION CONTACT: Arthur Winder, Program Manager, Washington Airports District Office, 23723 Air Freight Lane, Suite 210, Dulles, Va. 22016, (703) 661-1363. The application may be reviewed in person at this same location.

SUPPLEMENTARY INFORMATION: The FAA proposes to rule and invites public comment on the application to impose and use the revenue from a PFC at Richmond International Airport under the provisions of the 49 U.S.C. 40117 and part 158 of the Federal Aviation Regulations (14 CFR part 158).

On November 12, 2002, the FAA determined that the application to impose and use the revenue from a PFC submitted by Capital Region Airport Commission was substantially complete within the requirements of section 158.25 of part 158. The FAA will approve or disapprove the application, in whole or in part, no later than February 12, 2003.

The following is a brief overview of the application.

Proposed charge effective date: November 1, 2016.

Proposed charge expiration date: July 1, 2005.

Level of the proposed PFC: $3.00.

Total estimated PFC revenue:

Impose $35,812,079.

Use $69,367,774.

Brief description of proposed project(s):

Extend Taxiway “A” (Impose & Use).

Renovate Existing Concourses “A”, “B” and “C” (Impose & Use).

Terminal Drive Flyover and Access Roads (Impose and Use).

Terminal Building Addition and Modification (Use only).

Class or classes of air carriers which the public agency has requested not be required to collect PFCs: FAR part 135 On-demand air taxi/commercial operators (ATCO).

Any person may inspect the application in person at the FAA office listed above under FOR FURTHER INFORMATION CONTACT and at the FAA regional Airports office located at: Federal Aviation Administration, Airports Division, AEA-610, 1 Aviation Plaza, Jamaica, NY 11434-4809.

In addition, any person may, upon request, inspect the application, notice and other documents germane to the application in person at the Richmond International Airport.

Issued in Dulles, Va. 22016, December 10, 2002.
Arthur Winder,
Program Manager, Washington Airports District Office.

[FR Doc. 02-32418 Filed 12-23-02; 8:45 am]

BILLING CODE 4910-13-M